DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 23, 2015.
Roy E. Wright,
Deputy Associate Administrator for Mitigation, Department of Homeland Security, Federal Emergency Management Agency.

State and county | Location and case No. | Chief executive officer of community | Community map repository | Effective date of modification | Community No.
Alabama: Tuscaloosa (FEMA Docket No.: B-1454) | City of Tuscaloosa (14-04-4663P) | The Honorable Walter Maddox, Mayor, City of Tuscaloosa, 2201 University Boulevard, Tuscaloosa, AL 35401 | Engineering Department, 2201 University Boulevard, Tuscaloosa, AL 35401 | Jan. 15, 2015 | 010203
Arizona:
Maricopa (FEMA Docket No.: B-1454) | City of Chandler (14-09-2082P) | The Honorable Jay Tibshraeny, Mayor, City of Chandler, P.O. Box 4008, Chandler, AZ 85244 | Public Works Department, 215 East Buffalo Street, Chandler, AZ 85244 | Jan. 23, 2015 | 040040
Maricopa (FEMA Docket No.: B-1454) | City of Surprise (14-09-2037P) | The Honorable Sharon Wolcott, Mayor, City of Surprise, 16000 North Civic Center Plaza, Surprise, AZ 85374 | Community Development Services Department, 12425 West Bell Road, Suite D-100, Surprise, AZ 85374 | Jan. 16, 2015 | 040053
California:
Alameda (FEMA Docket No.: B-1448) | City of Fremont (14-09-0995P) | The Honorable Bill Harrison, Mayor, City of Fremont, 3300 Capitol Avenue, Fremont, CA 94538 | Development Services Center, 39550 Liberty Street, Fremont, CA 94538 | Dec. 29, 2014 | 065028
Alameda (FEMA Docket No.: B-1448) | City of Fremont (14-09-3370P) | The Honorable Bill Harrison, Mayor, City of Fremont, 3300 Capitol Avenue, Fremont, CA 94538 | Development Services Center, 39550 Liberty Street, Fremont, CA 94538 | Dec. 29, 2014 | 065028
Imperial (FEMA Docket No.: B-1448) | Unincorporated areas of Imperial County (14-09-3275P) | The Honorable John Renison, Chairman, Imperial County Board of Supervisors, 940 Main Street, Suite 209, El Centro, CA 92243 | Imperial County Public Works Department, 155 South 11th Street, El Centro, CA 92243 | Jan. 8, 2015 | 060065
Los Angeles (FEMA Docket No.: B-1448) | City of Palmdale (14-09-1102P) | The Honorable James C. Ledford, Jr., Mayor, City of Palmdale, 38300 Sierra Highway, Palmdale, CA 93550 | Public Works Department, 38300 Sierra Highway, Palmdale, CA 93550 | Jan. 8, 2015 | 060144
Santa Clara, (FEMA Docket No.: B-1454) | Town of Los Altos Hills, (14-09-3550P) | The Honorable John Radford, Mayor, Town of Los Altos Hills, 26379 Fremont Road, Los Altos Hills, CA 94022 | Public Works Department, 26379 Fremont Road, Los Altos Hills, CA 94022 | Jan. 8, 2015 | 060342
Colorado: Boulder (FEMA Docket No.: B-1454) | City of Longmont (14-08-0705P) | The Honorable Dennis Coombs, Mayor, City of Longmont, 350 Kimbark Street, Longmont, CO 80501 | Service Center, 1100 South Sherman Street, Longmont, CO 80501 | Jan. 26, 2015 | 080027
Florida:
Bay, (FEMA Docket No.: B-1448) | Unincorporated areas of Bay County, (13-04-8550P) | The Honorable Guy M. Tunnel, Chairman, Bay County Board of Commissioners, 840 West 11th Street, Panama City, FL 32401 | Bay County Planning And Zoning Department, 707 Jenks Avenue, Panama City, FL 32401 | Dec. 26, 2014 | 120004
Charlotte (FEMA Docket No.: B-1448) | Unincorporated areas of Charlotte County (14-04-5938P) | The Honorable Ken Doherty, Chairman, Charlotte County Board of Commissioners, 18500 Murdock Circle, Port Charlotte, FL 33948 | Charlotte County Community Development Department, 18500 Murdock Circle, Port Charlotte, FL 33948 | Jan. 5, 2015 | 120061
Collier (FEMA Docket No.: B-1448) | City of Marco Island (14-04-5224P) | The Honorable Kenneth E. Honecker, Chairman, Marco Island City Council, 50 Bald Eagle Drive, Marco Island, FL 34145 | City Hall, 50 Bald Eagle Drive, Marco Island, FL 34145 | Dec. 26, 2014 | 120426
Duval (FEMA Docket No.: B-1448) | City of Jacksonville (14-04-5239P) | The Honorable Alvin Brown, Mayor, City of Jacksonville, 117 West Duval Street, Jacksonville, FL 32202 | City Hall, 117 West Duval Street, Jacksonville, FL 32202 | Dec. 26, 2014 | 120077
Duval (FEMA Docket No.: B-1454) | City of Jacksonville (14-04-5730P) | The Honorable Alvin Brown, Mayor, City of Jacksonville, 117 West Duval Street, Suite 400, Jacksonville, FL 32202 | City Hall, 117 West Duval Street, Jacksonville, FL 32202 | Dec. 26, 2014 | 120077
Duval (FEMA Docket No.: B-1454) | City of Jacksonville (14-04-6014P) | The Honorable Alvin Brown, Mayor, City of Jacksonville, 117 West Duval Street, Suite 400, Jacksonville, FL 32202 | City Hall, 117 West Duval Street, Jacksonville, FL 32202 | Jan. 12, 2015 | 120077
Manatee (FEMA Docket No.: B-1448) | Unincorporated areas of Manatee County (14-04-8302P) | The Honorable Larry Bustle, Chairman, Manatee County Board of Commissioners, 1112 Manatee Avenue West, Bradenton, FL 34205 | Manatee County Building and Development Services Department, 1112 Manatee Avenue West, Bradenton, FL 34205 | Dec. 26, 2014 | 120153
Miami-Dade (FEMA Docket No.: B-1448) | City of Sunny Isles Beach (14-04-4656P) | The Honorable Norman S. Edelcup, Mayor, City of Sunny Isles Beach, 18070 Collins Avenue, Sunny Isles Beach, FL 33160 | Government Center, 18070 Collins Avenue, Sunny Isles Beach, FL 33160 | Jan. 5, 2015 | 120688
Orange (FEMA Docket No.: B-1448) | City of Orlando (14-04-4627P) | The Honorable Buddy Dyer, Mayor, City of Orlando, P.O. Box 4990, Orlando, FL 32802 | Permitting Services Department, 400 South Orange Avenue, Orlando, FL 32801 | Jan. 9, 2015 | 120186
Orange (FEMA Docket No.: B-1454) | City of Orlando (14-04-7362P) | The Honorable Buddy Dyer, Mayor, City of Orlando, 400 South Orange Avenue, Orlando, FL 32802 | Permitting Services Department, 400 South Orange Avenue, Orlando, FL 32802 | Jan. 23, 2015 | 120186
Orange (FEMA Docket No.: B-1448) | Unincorporated areas of Orange County (14-04-4627P) | The Honorable Teresa Jacobs, Mayor, Orange County, 201 South Rosalind Avenue, 5th Floor, Orlando, FL 32801 | Orange County Stormwater Management Department, 4200 South John Young Parkway, Orlando, FL 32839 | Jan. 9, 2015 | 120179
Polk (FEMA Docket No.: B-1448) | City of Winter Haven (14-04-4079P) | The Honorable Nathaniel Birdsong, Mayor, City of Winter Haven, 451 3rd Street Northwest, Winter Haven, FL 33881 | Engineering Services Division, 451 3rd Street Northwest, Winter Haven, FL 33881 | Jan. 5, 2015 | 120271
Seminole (FEMA Docket No.: B-1448) | City of Altamonte Springs (14-04-7250P) | The Honorable Patricia Bates, Mayor, City of Altamonte Springs, 225 Newburyport Avenue, Altamonte Springs, FL 32701 | Public Library, 281 North Maitland, Altamonte Springs, FL 32701 | Dec. 26, 2014 | 120290
Seminole (FEMA Docket No.: B-1448) | City of Casselberry (14-04-5862P) | The Honorable Charlene Glancy, Mayor, City of Casselberry, 95 Triplet Lake Drive, Casselberry, FL 32707 | City Hall, 95 Triplet Lake Drive, Casselberry, FL 32707 | Jan. 9, 2015 | 120291
Georgia:
Columbia (FEMA Docket No.: B-1448) | Unincorporated areas of Columbia County (14-04-7278P) | The Honorable Ron C. Cross, Chairman, Columbia County Board of Commissioners, P.O. Box 498, Evans, GA 30809 | Stormwater Utility Department, 603 Ronald Reagan Drive, Building B, 2nd Floor, Evans, GA 30809 | Jan. 2, 2015 | 130059
Fulton (FEMA Docket No.: B-1448) | Unincorporated areas of Fulton County (14-04-0878P) | The Honorable John Eaves, Chairman, Fulton County Board of Commissioners, 141 Pryor Street, Suite 10061, Atlanta, GA 30303 | Fulton County Office of Environment and Community Development, 141 Pryor Street, Suite 2085, Atlanta, GA 30303 | Jan. 12, 2015 | 135160
Montana:
Mineral (FEMA Docket No.: B-1442) | Town of Superior (14-08-0313P) | The Honorable Roni Phillips, Mayor, Town of Superior, P.O. Box 729, Superior, MT 59872 | Town Hall, 105 Cedar Street, Superior, MT 59872 | Jan. 15, 2015 | 300128
Ravalli (FEMA Docket No.: B-1448) | Unincorporated areas of Ravalli County (14-08-0632P) | The Honorable Greg Chilcott, Chairman, Ravalli County Board of Commissioners, 215 South 4th Street, Suite A, Hamilton, MT 59840 | Ravalli County Floodplain Map Repository, 215 South 4th Street, Suite A, Hamilton, MT 59840 | Jan. 19, 2015 | 300061
Nevada:
Clark (FEMA Docket No.: B-1448) | City of Henderson (14-09-1585P) | The Honorable Andy A. Hafen, Mayor, City of Henderson, P.O. Box 95050, Henderson, NV 89009 | Public Works Department, 240 Water Street, Henderson, NV 89015 | Dec. 29, 2014 | 320005
Douglas (FEMA Docket No.: B-1454) | Unincorporated areas of Douglas County (14-09-1494P) | The Honorable Doug N. Johnson, Chairman, Douglas County Board of Commissioners, P.O. Box 218, Minden, NV 89423 | Douglas County Public Works Department, 1615 8th Street, Minden, NV 89423 | Jan. 22, 2015 | 320008
South Carolina: Horry (FEMA Docket No.: B-1454) | City of North Myrtle Beach (14-04-7517P) | The Honorable Marilyn Hatley, Mayor, City of North Myrtle Beach, 1018 2nd Avenue South, North Myrtle Beach, SC 29582 | Planning and Development Department, 1015 2nd Avenue South, North Myrtle Beach, SC 29582 | Jan. 15, 2015 | 450110
Wyoming: Teton (FEMA Docket No.: B-1448) | Town of Jackson (14-08-0328P) | The Honorable Mark Barron, Mayor, Town of Jackson, P.O. Box 1687, Jackson, WY 83001 | Planner's Office, 150 East Pearl Street, Jackson, WY 83001 | Dec. 26, 2014 | 560052

[FR Doc. 2015-07403 Filed 3-31-15; 8:45 am]

BILLING CODE 9110-12-P